DEPARTMENT OF THE INTERIOR

National Park Service

[NPS-WASO-NRNHL-20790; PPWOCRADI0, PCU00RP14.R50000]

National Register of Historic Places; Notification of Pending Nominations and Related Actions

AGENCY: National Park Service, Interior.

ACTION: Notice.

SUMMARY: The National Park Service is soliciting comments on the significance of properties nominated before April 2, 2016, for listing or related actions in the National Register of Historic Places.

DATES: Comments should be submitted by May 6, 2016.

ADDRESSES: Comments may be sent via U.S. Postal Service to the National Register of Historic Places, National Park Service, 1849 C St. NW., MS 2280, Washington, DC 20240; by all other carriers, National Register of Historic Places, National Park Service, 1201 Eye St. NW., 8th floor, Washington, DC 20005; or by fax, 202-371-6447.

SUPPLEMENTARY INFORMATION: The properties listed in this notice are being considered for listing or related actions in the National Register of Historic Places. Nominations for their consideration were received by the National Park Service before April 2, 2016. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

FLORIDA

Escambia County

Marzoni House, 714 La Rua St., Pensacola, 16000245

GEORGIA

Haralson County

Tallapoosa Commercial Historic District, Centered on US 78, Head Ave., Odessa St. and RR., Tallapoosa, 16000246

IOWA

Bremer County

Sturdevant Southwest Historic District, Roughly bounded by 1st & 8th Sts. SW., 1st & 5t Aves. SW., W. Bremer Ave. & Cedar R., Waverly, 16000248

Scott County

Davenport Bank and Trust (Boundary Increase), 203 & 229 W. 3rd St., Davenport, 16000249

MARYLAND

Caroline County

Federalsburg West Historic District, Roughly bounded by Railroad, University & Bloomingdale Aves., Denton & Idlewild Rds. & Marshyhope Creek, Federalsburg, 16000250

MASSACHUSETTS

Worcester County

Beaman Memorial Public Library, 8 Newton St., West Boylston, 16000251

NEW JERSEY

Mercer County

Camden and Amboy Railroad Right of Way Site, N. side of Rogers Ave. about 100 yds. W. of Mercer St., Hightstown Borough, 16000252

NEW YORK

Dutchess County

Attlebury Schoolhouse, 6917 NY 82, Stanford, 16000253

Kings County

Beth Olam Cemetery, 2 Cypress Hills St., Brooklyn, 16000254

New York County

Calvary Methodist Episcopal Church, 211 W. 129th St., 2190 Adam Clayton Powell, Jr. Blvd., New York, 16000255

Ulster County

Fitch Bluestone Company Office, 532-574 Abeel St., Kingston, 16000256

PENNSYLVANIA

Philadelphia County

Tacony Disston Community Development Historic District, Roughly bounded by 4500-4900 blks. of Magee St., Princeton & Tyson Aves., 6900 blk. of Cottage St., Philadelphia, 16000257

SOUTH DAKOTA

Meade County

Black Hills National Cemetery, 20901 Pleasant Valley Dr., Sturgis, 16000258

VIRGINIA

Charlottesville Independent City

Foster Site, The, 1540 Jefferson Park Ave., Charlottesville (Independent City), 16000259

Hanover County

Tavern at Old Church, The, 3350-3360 Old Church Rd., Mechanicsville, 16000260

Lynchburg Independent City

Court House Hill—Downtown Historic District (Boundary Increase II), 300 & 400 blks. 12th, 1200 blk. Church, 1000 blk. Main, 1001 Commerce & 1300 Court Sts., Lynchburg (Independent City), 16000261

Roanoke County

Cook, Roland E., Elementary School, 412 S. Poplar St., Vinton, 16000262

Roanoke Independent City

Roanoke City Health Center, 515 8th St. SW., Roanoke (Independent City), 16000263

WYOMING

Sheridan County

Dayton Mercantile, 408 Main St., Dayton, 16000264

Washakie County

Parks, Emerson, House, 504 2nd St., Ten Sleep, 16000265

A request to move has been received for the following resource:

NEW YORK

Broome County

Ross Park Carousel, Ross Park, Binghamton, 91001966

A request for a name change and to move has been received for the following resource:

NORTH CAROLINA

Wake County

Jones, Crabtree, House (Jones Jr., Nathaniel, House), N. of Raleigh off Old Wake Forest Rd., Raleigh, 73001376

A request for removal has been received for the following resources:

OHIO

Huron County

Benedict, Dr. David De Forest, House, 80 Seminary St., Norwalk, 75001439

Lorain County

Bryant, George, House, 333 3rd. St., Elyria, 79002727

Old District Nine Schoolhouse, Chestnut St., Elyria, 79002715

Old St. John's Church 600 W. Broad St., Elyria, 79002721

Muskingum County

Emery, Abram, House, 413 Pershing Rd., Zanesville, 78002160

Authority: 60.13 of 36 CFR part 60.

Dated: April 5, 2016.
J. Paul Loether,
Chief, National Register of Historic Places/National Historic Landmarks Program.

[FR Doc. 2016-09218 Filed 4-20-16; 8:45 am]

BILLING CODE 4312-51-P